DEPARTMENT OF THE INTERIOR

Bureau of Land Management

[LLNVL03000 L58480000.EU0000 241A; 14-08807; MO #4500116369; TAS: 14X1109]

Notice of Realty Action: Competitive Sale of Nine Parcels of Public Land in Lincoln County, NV

AGENCY: Bureau of Land Management, Interior.

ACTION: Notice of realty action.

SUMMARY: The Bureau of Land Management (BLM) proposes to offer by competitive sale 9 parcels of public land totaling 296.09 acres in Lincoln County, Nevada, pursuant to the Lincoln County Conservation, Recreation, and Development Act of 2004 (LCCRDA). BLM cannot sell land at less than Fair Market Value (FMV), as determined by a current appraisal, reviewed and approved by Department of Interior Appraisal Valuation and Services Office. For competitive bidding, the FMV will determine the beginning point for oral bidding on each parcel. The sale will be subject to the applicable provision of the Federal Land Policy and Management Act of 1976 (FLPMA), and BLM land sale regulations.

DATES: Interested persons may submit written comments to the BLM Caliente Field Office at the address listed in the ADDRESSES section. The BLM must receive the comments on or before September 28, 2018. The sale, by sealed bid and oral public auction, will be held on October 23, 2018, at 1:00 p.m., Pacific Time, at The Caliente Railroad Depot at the address listed in the ADDRESSES section. The BLM will start accepting sealed bids beginning October 9, 2018. Sealed bids must be received at the BLM, Caliente Field Office no later than 4:30 p.m., Pacific Time on October 15, 2018. The BLM will open sealed bids on the day of the sale, just prior to the oral bidding.

ADDRESSES:

• Mail written comments, submit sealed bids and obtain forms at: Caliente Field Office, 1400 South Front Street, Caliente, Nevada 89008.

• Certificate of Eligibility forms are also available at the BLM website at: https://www.blm.gov/documents/nevada/frequently-requested/data/certificate-eligibility.

• Registration forms are also available at: https://www.blm.gov/services/electronic-forms.

• Sale Location: Caliente Railroad Depot, 100 Depot Avenue, Caliente, NV 89008.

FOR FURTHER INFORMATION CONTACT: Susan Grande, Realty Specialist, Ely District Office, 702 North Industrial Way, Ely, Nevada 89301 or by telephone at 775-289-1809 or by email at sgrande@blm.gov; or Chris Carlton, Field Manager, Caliente Field Office, at 775-726-8100 or by email at ccarlton@blm.gov. Persons who use a telecommunications device for the deaf (TDD) may call the Federal Relay Service at 1-800-877-8339 to contact the above individuals during normal business hours. The Service is available 24 hours a day, 7 days a week, to leave a message or question with the above individual. You will receive a reply during normal business hours.

SUPPLEMENTARY INFORMATION: The BLM will conduct a Competitive Sale for nine parcels of public land located in Lincoln County, Nevada, described as follows:

Mount Diablo Meridian, Nevada

Parcel in Alamo, NV

N-90795, 38.77 acres:

T. 6 S., R. 61 E.,

Sec. 29, lot 10.

Parcels in Caliente, NV

N-92816, 80.00 acres:

T. 3 S., R. 67 E.,

Sec. 29, N½SE¼.

N-95799, 40.00 acres:

T. 3 S., R. 67 E.,

Sec. 28, SW¼SW¼.

Parcels in Panaca, NV

N-90794, 20.00 acres:

T. 2 S., R. 68 E.,

Sec. 10, S½SW¼NW¼.

N-95800, 10.00 acres:

T. 2 S., R. 68 E.,

Sec. 9, SE¼SE¼NE¼.

N-95801, 40.00 acres:

T. 2 S., R. 68 E.,

Sec. 9, NE¼SE¼.

Parcels in Pioche, NV

N-90796, 7.32 acres:

T. 1 N., R. 67 E.,

Sec. 22, lots 2 and 4.

N-95805, 40.00 acres:

T. 1 N., R. 67 E.,

Sec. 11, SE¼SW¼.

N-95806, 20.00 acres:

T. 1 N., R. 67 E.,

Sec. 11, E½SW¼SW¼.

Upon publication of this Notice in the Federal Register, the described land will be segregated from all forms of appropriation under the public land laws, except for the sale provisions of FLPMA. Upon publication and until completion of the sale, the BLM will no longer accept land use applications affecting the identified public lands, except applications for the amendment of previously filed right-of-way (ROW) applications or existing authorizations to increase the term of the grants in accordance with 43 CFR 2807.15 and 2886.15. The segregated effect will terminate upon issuance of a patent, publication in the Federal Register of a termination of the segregation, or on August 14, 2020, unless extended by the BLM Nevada State Director in accordance with 43 CFR 2711.1-2(d) prior to the termination date.

These tracts of public land meet the disposal criteria consistent with Section 203 of FLPMA and the BLM Ely District Record of Decision and Approved Resource Management Plan (ROD/RMP) dated August 20, 2008. The parcels are suitable for disposal and disposal would be in compliance with the LCCRDA, enacted on November 30, 2004, and conform to the ROD/RMP as referenced in the Lands and Realty objectives LR-8, page 66; and Appendix B, page B-1. An Environmental Assessment NV-L030-2015-0026 was prepared and a Decision Record was signed on July 21, 2017. All documents including a map and the summary of appraisals for the sale are available for review at the BLM Caliente Field Office.

FLPMA Section 209, 43 U.S.C. 1719(a), states that “all conveyances of title issued by the Secretary . . . shall reserve to the United States all minerals in the lands.” The BLM prepared a mineral potential report dated July 14, 2015. Based on that report, BLM concluded that no significant mineral resource value will be affected by the disposal of these parcels. These parcels are not required for any Federal purposes, and their disposal is in the public interest and meets the intent of the LCCRDA.

Both LCCRDA and FLPMA express a preference that disposal of public lands take place through a competitive bidding process. In accordance with 43 CFR 2710.0-6(c)(3)(i), a competitive sale of public land may be used where “there would be a number of interested parties bidding for the lands and (A) wherever in the judgment of the authorized officer the lands are accessible and usable regardless of adjoining land ownership and (B) wherever the lands are within a developing or urbanizing area and land values are increasing due to their location and interest on the competitive market.” The BLM examined the parcels and found them to be consistent with and suitable for disposal using competitive sale procedures. Competitive Sale Procedures as prescribed by 43 CFR 2711.3-1:

Sale Procedures: Registration for oral bidding will begin at 9:00 a.m. Pacific Time at The Caliente Railroad Depot, 100 Depot Avenue, Council Chambers Room, Caliente, NV 89008, on the day of the sale. There will be no prior registration before the sale date. The public sale auction will be through sealed and oral bids. To determine the high bids among the qualified bids received, the sealed bids must be received at the place of the sale prior to the hour fixed in the notice. They will be opened and recorded on the day of the sale. The highest bid above FMV of the sealed bids will set the starting point for oral bidding on a parcel. Parcels that receive no qualified sealed bids will begin at the established FMV. Bidders who are participating and attending the oral auction on the day of the sale are not required to submit a sealed bid but may choose to do so.

Sealed-bid envelopes must be clearly marked on the lower front left corner with the parcel number and name of the sale, for example: “N-XXXXX, 9-parcel LCCRDA Land Sale 2018.” Sealed bids must include an amount not less than 20 percent of the total bid amount by certified check, bank draft, cashier's check, or United States postal money order made payable in United States dollars to the “Department of the Interior—Bureau of Land Management.” The BLM will not accept personal or company checks. The sealed-bid envelope must contain the deposit and a completed and signed “Certificate of Eligibility” form stating the name, mailing address, and telephone number of the entity or person submitting the bid.

Pursuant to 43 CFR 2711.3-1(c), if two or more sealed-bid envelopes contain valid bids of the same amount, the bidders will be notified via phone or in person to submit another bid within ten minutes or to withdraw their original bid. Oral bidding will start at the highest sealed-bid amount. If there are no oral bids on the parcel, the authorized officer will determine the winning bidder. Bids for less than the federally-approved FMV will not qualify.

The highest qualifying sealed bid will be publicly declared in accordance with 43 CFR 2711.3-1(d). Acceptance or rejection of any offer(s) to purchase will be in accordance with the procedures set forth in 43 CFR 2711.3-1 (f) and (g).

Bid Deposits and Payment

BLM's authorized officer will declare a high bidder. In accordance with 43 CFR 2711.3-1(d), if the declared highest bid was an oral bid, then the bidder shall submit their bid deposit in the form of a bank draft, cashier's check, certified check, or U.S. postal money order, or any combination thereof, and made payable in United States dollars to the “Department of the Interior—Bureau of Land Management.” The high bidder shall submit a deposit of no less than 20 percent of the successful bid by 4:00 p.m., Pacific Time on the day of the sale to the BLM, Collections Officers at the BLM, Caliente Field Office, at the address listed in the ADDRESSES section. The person declared to have entered the highest qualifying bid shall submit payment by cash, personal check, bank draft, money order, or any combination for not less than one-fifth (20%) of the amount of the bid immediately following the close of the sale. No contractual or other rights against the United States may accrue until the BLM officially accepts the offer to purchase and the full bid price is paid. All funds submitted with unsuccessful bids will be returned to the bidders or their authorized representative upon presentation of acceptable photo identification at the BLM Caliente Field Office or by certified mail.

In accordance with 43 CFR 2711.3-1(d), “The successful bidder . . . shall submit the remainder of the full bid price prior to the expiration of 180 days from the date of the sale.” Failure to pay the full purchase price within 180 days of the sale will result in forfeiture of the bid deposit. No exceptions will be made. The BLM cannot accept the remainder of the bid price at any time following the 180th day after the sale.

Arrangements for electronic fund transfer to the BLM shall be made a minimum of two weeks prior to final payment. Failure to meet conditions established for this sale will void the sale and any funds received will be forfeited.

In order to qualify for a federal conveyance of title, as set forth in 43 CFR 2711.2, the conveyee must be: (1) A citizen of the United States 18 years of age or older; (2) A corporation subject to the laws of any state or of the United States; (3) A state, state instrumentality, or political subdivision authorized to hold property; or (4) An entity legally capable of conveying and holding lands or interests therein under the laws of the State of Nevada.

Federal law requires that bidders must be: (1) A citizen of the United States 18 years of age or older; (2) a corporation subject to the laws of any state or of the United States; (3) a state, instrumentality, or political subdivision authorized to hold property; or (4) an entity legally capable of conveying and holding lands or interests therein under the laws of the State of Nevada. Evidence of United States citizenship is a birth certificate, passport, or naturalization papers. The high bidder must submit proof of citizenship within 25 days from receipt of the high-bidder letter. Citizenship documents and Articles of Incorporation (as applicable) must be provided to the BLM-LVFO for each sale. The successful bidder is allowed 180 days from the date of the sale to submit the remainder of the full purchase price.

The public land will not be offered for sale prior to 60 days from the date this Notice is published in the Federal Register. The patents, if issued, would be subject to the following terms, conditions, and reservations:

1. A reservation for any right-of-way thereon for ditches or canals constructed by the authority of the United States, Act of August 30, 1890 (43 U.S.C. 945);

2. A reservation for all mineral deposits in the land so patented, together with the right to prospect for, mine, or remove such deposits from the same under applicable law and such regulations as the Secretary of the Interior may prescribe shall be reserved to the United States;

3. The parcels are subject to valid existing rights; and

4. By accepting this patent, the purchasers/patentees agree to indemnify, defend, and hold the United States harmless from any costs, damages, claims, causes of action, penalties, fines, liabilities, and judgments of any kind or nature arising from the past, present, and future acts or omissions of the patentee, its employees, agents, contractors, or lessees, or any third-party, arising out of or in connection with the patentee's use, occupancy, or operations on the patented real property. This indemnification and hold harmless agreement includes, but is not limited to, acts and omissions of the patentee, its employees, agents, contractors, or lessees, or any third party, arising out of or in connection with the use and/or occupancy of the patented real property resulting in: (a) Violations of federal, state, and local laws and regulations that are now or may in the future become applicable to the real property; (b) Judgments, claims or demands of any kind assessed against the United States; (c) Costs, expenses, or damages of any kind incurred by the United States; (d) Releases or threatened releases of solid or hazardous waste(s) and/or hazardous substances(s), as defined by Federal or state environmental laws, off, on, into or under land, property and other interests of the United States; (e) Other activities by which solid waste or hazardous substances or waste, as defined by Federal and state environmental laws are generated, released, stored, used or otherwise disposed of on the patented real property, and any cleanup response, remedial action or other actions related in any manner to said solid or hazardous substances or wastes; or (f) Natural resource damages as defined by Federal and state law. This covenant shall be construed as running with the patented real property, and may be enforced by the United States in a court of competent jurisdiction.

No representation, warranty, or covenant of any kind, express or implied, is given or made by the United States, its officers or employees, as to title, access to or from the above described parcels of land, the title of the land, whether or to what extent the land may be developed, its physical condition, or past, present or future uses, and the conveyance of any such parcel will not be on a contingency basis. The buyer is responsible to be aware of all applicable Federal, state, and local government policies and regulations that would affect the subject lands. It is also the buyer's responsibility to be aware of existing or prospective uses of nearby properties. Lands without access from a public road or highway will be conveyed as such, and future access acquisition will be the responsibility of the buyer.

The parcels may be subject to land use applications received prior to publication of this notice if processing the application would have no adverse effect on the marketability of title, or the FMV of the parcel. Encumbrances of record, appearing in the case file are available for review during business hours, 7:30 a.m. to 4:30 p.m., Pacific Time, Monday through Friday at the BLM Caliente Field Office, except during Federally-recognized holidays.

The parcels are subject to limitations prescribed by law and regulation, and prior to patent issuance, a holder of any ROW within the parcels will be given the opportunity to amend the ROW for conversion to a new term, including perpetuity, if applicable, or to an easement.

The BLM will notify valid existing ROW holders of their ability to convert their compliant ROW to perpetual ROW or easements. Each valid holder will be notified in writing of their rights and then must apply for the conversion of their current authorization.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the BLM Caliente Field Office 30 days before the scheduled closing date. There are no exceptions.

All name changes and supporting documentation must be received at the BLM Caliente Field Office 30 days from the date of the high bidder letter by 4:00 p.m. Pacific Standard Time. Name changes will not be accepted after that date. To submit a name change, the high bidder must submit the name change on the Certificate of Eligibility form to the BLM, Caliente Field Office in writing. Certificate of Eligibility forms are available at the Caliente Field Office and at the BLM website listed in the ADDRESSES section.

The BLM will not sign any documents related to 1031 Exchange transactions. The timing for completion of the exchange is the bidder's responsibility in accordance with Internal Revenue Service regulations. The BLM is not a party to any 1031 Exchange.

In order to determine the FMV through appraisal, certain extraordinary assumptions and hypothetical conditions are made concerning the attributes and limitations of the land and potential effects of local regulations and policies on potential future land uses. Through publication of this Notice, the BLM advises that these assumptions may not be endorsed or approved by units of local Government.

In accordance with 43 CFR 2711.3-1(f), the BLM may accept or reject any or all offers to purchase, or withdraw any parcel of land or interest therein from sale, if, in the opinion of the BLM authorized officer, consummation of the sale would be inconsistent with any law, or for other reasons.

In order for your comment to be considered properly filed, it must be in writing and submitted by postal service or overnight mail, to the Field Manager, BLM Caliente Field Office.

Before including your address, phone number, email address, or other personal identifying information in your comment, you should be aware that your entire comment, including your personal identifying information, may be made publicly available at any time. While you can ask us in your comment to withhold your personal identifying information from public review, we cannot guarantee that we will be able to do so.

Any adverse comments will be reviewed by the BLM Nevada State Director or other authorized official of the Department of the Interior, who may sustain, vacate, or modify this realty action. In the absence of any comments, this realty action will become the final determination of the Department of the Interior.

Authority: 43 CFR 2711.1-2.

Chris Carlton,
Caliente Field Manager.

[FR Doc. 2018-17383 Filed 8-13-18; 8:45 am]

BILLING CODE 4310-HC-P